DEPARTMENT OF DEFENSE

Department of the Army

Record of Decision (ROD) for the Final Programmatic Environmental Impact Statement (PEIS) on Transportable Treatment Systems for Non-Stockpile Chemical Warfare Materiel

AGENCY: Department of the Army, Department of Defense.

ACTION: Notice of Availability.

SUMMARY: This ROD has been prepared by the Department of the Army in compliance with the National Environmental Policy Act of 1969, President's Council on Environmental Quality regulation (40 CFR 1500-1508), and Army Regulation 200-2. This decision is based on the analyses contained in the February 2001 Final PEIS on Transportable Treatment Systems for Non-Stockpile Chemical Warfare Materiel, the associated public and other input received in response to coordination of this document, and other considerations. The primary decisions reached in the ROD on transportable treatment systems are to: (1) Proceed with development and testing of the Rapid Response System and the Explosive Destruction System and make these systems available for deployment and (2) suspend further development and testing of the Munitions Management Device Versions One and Two (based on current program needs),; however, the Munitions Management Device technologies were determined to be environmentally safe and subsystems could be used in the future.

ADDRESSES: Questions on the ROD or requests for copies of the document should be directed to: Program Manager for Chemical Demilitarization, ATTN: SFAE-CD-NP (Mr. John Gieseking/Programmatic Environmental Impact Statement), Aberdeen Proving Ground, Maryland 21010-4005 or via e-mail at john.gieseking@pmcd.apgea.army.mil.

FOR FURTHER INFORMATION CONTACT: Mr. John Gieseking at (410) 436-3768 or by fax at (410) 436-8737.

SUPPLEMENTARY INFORMATION: The PEIS was used to help the Army make this program-level decision with input from the public. The Army's Product Manager for Non-Stockpile Chemical Materiel has analyzed the potential environmental and socioeconomic consequences of two alternative courses of action in the Final PEIS with Respect to the Army's chemical demilitarization responsibilities. These alternatives are: (1) Completing development and testing of the transportable chemical treatment systems and making them available to be used where needed and appropriate to process non-stockpile chemical warfare materiel and (2) the no-action alternative, under which the Army would discontinue the development of the transportable treatment systems and continue to store non-stockpile chemical warfare materiel until other suitable technologies are developed.

Copies of the ROD can also be obtained by calling Ms. Louise Dyson, Public outreach and Information Office, Office of the Program Manager for Chemical Demilitarization, at 1-800-488-0648 or (410) 436-3445; fax (410) 436-8737; or e-mail at louise.dyson@pmcd.apgea.army.mil. The ROD, as well as the Final PEIS, may be accessed at the following web site: http://www-pmcd.apgea.army.mil.

Dated: June 18, 2002.
Raymond J. Fatz,
Deputy Assistant Secretary of the Army (Environment, Safety and Occupational Health), OASA(I&E).

[FR Doc. 02-16092 Filed 6-25-02; 8:45 am]

BILLING CODE 3710-08-M